DEPARTMENT OF TRANSPORTATION

Federal Aviation Administration

Civil Supersonic Aircraft Panel Discussion

AGENCY: Federal Aviation Administration (FAA), DOT.

ACTION: Notice of meeting participation.

SUMMARY: This notice advises interested persons that the FAA is conducting its fourth public meeting on civil supersonic aircraft research. The public meeting will include presentations on current research programs and a question and answer session for attendees. The purpose of the meeting is to raise public awareness of the continuing technological advancements in supersonic aircraft technology aimed at reducing the intensity of sonic boom.

DATES: The public meeting will be held on Thursday, July 14, 2011, in Washington, DC from 1 p.m. to 3 p.m. Attendees are encouraged to either come early or stay later to visit the Gulfstream Aerospace Corporation (Gulfstream) Supersonic Acoustic Signature Simulator (SASSII) that will be outside of the Department of Transportation (DOT) building.

Meeting registration is required by June 23; there is no registration fee. All participants are requested to register at the following Web site: https://spreadsheets.google.com/spreadsheet/viewform?formkey=dEFEdlRnYzBiaHZtTUozTHVtbkF4d0E6M.Q

ADDRESSES: The public meeting will be held at the DOT Headquarters building, 1200 New Jersey Ave., SE., Washington, DC 20590, Conference Room Oklahoma A-C. The DOT building is located across the street from the Navy Yard Metro stop on the Green Line. Attendance is open to all interested parties; however, for building security requirements, please register by June 23 (see above for information on registration).

FOR FURTHER INFORMATION CONTACT: Laurette Fisher, Office of Environment and Energy (AEE-100), Federal Aviation Administration, 800 Independence Avenue, SW., Washington, DC 20591; e-mail laurette.fisher@faa.gov, facsimile (202) 267-5594, telephone (202) 267-3561 and Sandy Liu, Office of Environment and Energy (AEE-100), Federal Aviation Administration, 800 Independence Avenue, SW., Washington, DC 20591; e-mail sandy.liu@faa.gov, facsimile (202) 267-5594, telephone (202) 493-4864.

Background: Since March 1973, supersonic flight over land by civil aircraft has been prohibited in the United States. The Concorde was the only civil supersonic airplane that offered service to the United States, but that airplane is no longer in service.

The interest in supersonic aircraft technology has not disappeared. Current research is dedicated toward reducing the impact of sonic booms as they reach the ground, in an effort to make overland flight acceptable. Recent research has produced promising results for low boom intensity, and has renewed interest in developing supersonic civil aircraft that could be considered environmentally acceptable for supersonic flight over land.

The FAA has held three previous public meetings. The first meeting was held in Chicago, IL on Friday, October 24, 2008, as part of the O'Hare Noise Compatibility Commission Symposium. The second meeting was held in Palm Springs, CA on Sunday, March 1, 2009, as part of the Annual University of California Symposium on Aviation Noise and Air Quality. And, the third meeting took place on Wednesday, April 21, 2010, as part of the joint meeting of the 159th Acoustical Society of America and NOISE-CON 2010 in Baltimore, Maryland 21202.

The purpose of these meetings is to raise public awareness on advances in supersonic technology, and for the FAA, the National Aeronautics and Space Administration (NASA), and industry to get feedback from interested persons.

Highlighting the effort to raise awareness, Gulfstream has supported the FAA's public meetings by making its Supersonic Acoustic Signature Simulator II (SASSII) available for attendees to visit. The SASSII is a mobile audio booth designed and equipped to demonstrate the “Gulfstream Whisper”, the aerospace company's latest effort to provide a solution to the traditional sonic boom.

A supersonic aircraft such as the Concorde in cruise produces a traditional jagged “N-wave” sonic boom pressure wave, resulting in a loud, jarring double boom on the ground as it passes by. Gulfstream's patented spike for controlling and reducing sonic boom transforms the traditional N-wave sonic boom into a smooth and more rounded pressure wave shaped roughly like a sine wave or a sideways “S”. This change in the wave shape results in a softer sound that is quieter than the Concord sonic boom by a factor of 10,000. Gulfstream developed the mobile SASSII so others could experience this dramatic sound difference. The simulator enables visitors to sense for themselves the dramatic difference in sound, reverberation, and intensity. Using a sophisticated, computer-based audio system, the acoustic engineer sends the audio feed into a sound booth where visitors can compare various sound signatures.

Public involvement is essential in any future definition of an acceptable new standard that would allow supersonic flights over land. We anticipate that this will be one of many meetings informing the public on the continual developments in the research of shaped sonic booms and other technical and environmental challenges that need to be addressed in developing a new supersonic airplane.

Issued in Washington, DC, on May 18, 2011.
Lourdes Q. Maurice,
Executive Director, Office of Environment and Energy.

[FR Doc. 2011-12742 Filed 5-23-11; 8:45 am]

BILLING CODE 4910-13-P